DEPARTMENT OF ENERGY

Federal Energy Regulatory Commission

Combined Notice of Filings #1

Take notice that the Commission received the following electric rate filings:

Docket Numbers: ER21-42-000.

Applicants: Tenaska Power Services Co.

Description: Refund Report: Refund Report to be effective N/A.

Filed Date: 2/19/26.

Accession Number: 20260219-5145.

Comment Date: 5 p.m. ET 3/12/26.

Docket Numbers: ER25-2093-002.

Applicants: Southwestern Electric Power Company.

Description: Compliance filing: Rate Schedule No. 128—Consolidated to be effective 5/30/2025.

Filed Date: 2/19/26.

Accession Number: 20260219-5152.

Comment Date: 5 p.m. ET 3/12/26.

Docket Numbers: ER25-3479-001.

Applicants: Southwestern Electric Power Company.

Description: Compliance filing: Rate Schedule Nos. 119 and 129— Consolidated to be effective 11/19/2025.

Filed Date: 2/19/26.

Accession Number: 20260219-5166.

Comment Date: 5 p.m. ET 3/12/26.

Docket Numbers: ER26-1439-000.

Applicants: Florida Power & Light Company.

Description: § 205(d) Rate Filing: Conforming Amendments to Pro Forma Transmission Service Agreements to be effective 4/22/2026.

Filed Date: 2/19/26.

Accession Number: 20260219-5138.

Comment Date: 5 p.m. ET 3/12/26.

Docket Numbers: ER26-1440-000.

Applicants: Wagon Wheel Wind Project Holdings LLC.

Description: Tariff Amendment: MBR Cancellation to be effective 3/31/2026.

Filed Date: 2/19/26.

Accession Number: 20260219-5143.

Comment Date: 5 p.m. ET 3/12/26.

Docket Numbers: ER26-1441-000.

Applicants: Top Hat Wind Energy Holdings LLC.

Description: Tariff Amendment: MBR Cancellation to be effective 3/31/2026.

Filed Date: 2/19/26.

Accession Number: 20260219-5149.

Comment Date: 5 p.m. ET 3/12/26.

Docket Numbers: ER26-1442-000.

Applicants: Algodon Solar Energy Holdings LLC.

Description: Tariff Amendment: MBR Cancellation to be effective 3/31/2026.

Filed Date: 2/19/26.

Accession Number: 20260219-5153

Comment Date: 5 p.m. ET 3/12/26.

Docket Numbers: ER26-1443-000.

Applicants: PJM Interconnection, L.L.C.

Description: § 205(d) Rate Filing: Amendment to ISA No. 6194; Queue No. AD1-140 to be effective 4/22/2026.

Filed Date: 2/20/26.

Accession Number: 20260220-5005.

Comment Date: 5 p.m. ET 3/13/26.

Docket Numbers: ER26-1444-000.

Applicants: PJM Interconnection, L.L.C.

Description: § 205(d) Rate Filing: Amendment to GIA, SA No. 7442; Project Identifier No. AE2-316/AF1-302 to be effective 4/22/2026.

Filed Date: 2/20/26.

Accession Number: 20260220-5014.

Comment Date: 5 p.m. ET 3/13/26.

Docket Numbers: ER26-1445-000.

Applicants: PJM Interconnection, L.L.C.

Description: § 205(d) Rate Filing: Original NSA, Service Agreement No. 7922; AE1-072 to be effective 4/22/2026.

Filed Date: 2/20/26.

Accession Number: 20260220-5015.

Comment Date: 5 p.m. ET 3/13/26.

Docket Numbers: ER26-1446-000.

Applicants: Midcontinent Independent System Operator, Inc.

Description: § 205(d) Rate Filing: 2026-02-20_SA 4682 ITC Midwest-Interstate Power & Light GIA (R5064) to be effective 2/18/2026.

Filed Date: 2/20/26.

Accession Number: 20260220-5019.

Comment Date: 5 p.m. ET 3/13/26.

Docket Numbers: ER26-1447-000.

Applicants: Midcontinent Independent System Operator, Inc.

Description: § 205(d) Rate Filing: 2026-02-20_SA 4683 ITC Midwest-Interstate Power & Light GIA (R5065) to be effective 2/18/2026.

Filed Date: 2/20/26.

Accession Number: 20260220-5028.

Comment Date: 5 p.m. ET 3/13/26.

Docket Numbers: ER26-1448-000.

Applicants: Southwest Power Pool, Inc.

Description: § 205(d) Rate Filing: 1148R37 American Electric Power NITSA NOAs to be effective 12/1/2025.

Filed Date: 2/20/26

Accession Number: 20260220-5037.

Comment Date: 5 p.m. ET 3/13/26.

Docket Numbers: ER26-1449-000.

Applicants: Appalachian Power Company, Indiana Michigan Power Company, Kentucky Power Company, Kingsport Power Company, Ohio Power Company, Wheeling Power Company.

Description: Compliance filing: Appalachian Power Company submits tariff filing per 35: AEP submits PBOP informational filing per OATT Att. H-14B Pt II, Worksheet O to be effective N/A.

Filed Date: 2/20/26.

Accession Number: 20260220-5040.

Comment Date: 5 p.m. ET 3/13/26.

Docket Numbers: ER26-1450-000.

Applicants: Midcontinent Independent System Operator, Inc.

Description: § 205(d) Rate Filing: 2026-02-20_SA 4537 NIPSCO-North Bend Solar Project 1st Rev GIA (J1684) to be effective 2/12/2026.

Filed Date: 2/20/26.

Accession Number: 20260220-5046.

Comment Date: 5 p.m. ET 3/13/26.

Docket Numbers: ER26-1451-000.

Applicants: Willey Battery Utility, LLC.

Description: Tariff Amendment: Notice of Cancellation of Market-Based Rate Tariff to be effective 2/21/2026.

Filed Date: 2/20/26.

Accession Number: 20260220-5048.

Comment Date: 5 p.m. ET 3/13/26.

Docket Numbers: ER26-1452-000.

Applicants: Midcontinent Independent System Operator, Inc., Michigan Electric Transmission Company, LLC.

Description: § 205(d) Rate Filing: Michigan Electric Transmission Company, LLC submits tariff filing per 35.13(a)(2)(iii: 2026-02-20_SA 1926 METC-CE 12th Rev DTIA to be effective 2/1/2026.

Filed Date: 2/20/26.

Accession Number: 20260220-5049.

Comment Date: 5 p.m. ET 3/13/26.

Docket Numbers: ER26-1453-000.

Applicants: Tri-State Generation and Transmission Association, Inc.

Description: § 205(d) Rate Filing: Amendment to Rate Schedule FERC No. 27 to be effective 4/22/2026.

Filed Date: 2/20/26.

Accession Number: 20260220-5075.

Comment Date: 5 p.m. ET 3/13/26.

Docket Numbers: ER26-1454-000.

Applicants: PJM Interconnection, L.L.C.

Description: Tariff Amendment: Notice of Cancellation of ISA, SA No. 6958; Project Identifier No. AE2-256 to be effective 4/22/2026.

Filed Date: 2/20/26.

Accession Number: 20260220-5078.

Comment Date: 5 p.m. ET 3/13/26.

Docket Numbers: ER26-1455-000.

Applicants: Duke Energy Florida, LLC.

Description: § 205(d) Rate Filing: DEF—FMPA Dynamic Transfer Agreement RS No. 503 to be effective 4/22/2026.

Filed Date: 2/20/26.

Accession Number: 20260220-5095.

Comment Date: 5 p.m. ET 3/13/26.

Docket Numbers: ER26-1456-000.

Applicants: ENGIE Power & Gas LLC.

Description: Tariff Amendment: Notice of Cancellation of Market-Based Rate Tariff to be effective 3/1/2026.

Filed Date: 2/20/26.

Accession Number: 20260220-5096.

Comment Date: 5 p.m. ET 3/13/26.

Docket Numbers: ER26-1457-000.

Applicants: Active Power Investments LLC.

Description: Initial Rate Filing: Application for Market-Based Rate Authority with Expedited Treatment to be effective 2/21/2026.

Filed Date: 2/20/26.

Accession Number: 20260220-5100.

Comment Date: 5 p.m. ET 3/13/26.

Docket Numbers: ER26-1458-000.

Applicants: PJM Interconnection, L.L.C.

Description: § 205(d) Rate Filing: Original WMPA, SA No. 7877; AF2-299 to be effective 1/21/2026.

Filed Date: 2/20/26.

Accession Number: 20260220-5109.

Comment Date: 5 p.m. ET 3/13/26.

Docket Numbers: ER26-1459-000.

Applicants: Duke Energy Florida, LLC.

Description: § 205(d) Rate Filing: DEF-FMPA NITSA SA No. 148 (2026) to be effective 4/22/2026.

Filed Date: 2/20/26.

Accession Number: 20260220-5124.

Comment Date: 5 p.m. ET 3/13/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 20, 2026.
Carlos D. Clay,
Deputy Secretary.

[FR Doc. 2026-03719 Filed 2-24-26; 8:45 am]

BILLING CODE 6717-01-P